ENVIRONMENTAL PROTECTION AGENCY

[EPA-HQ-OPP-2008-0844; FRL-9942-69]

Imidacloprid Registration Review; Draft Pollinator Ecological Risk Assessment; Extension of Comment Period

AGENCY: Environmental Protection Agency (EPA).

ACTION: Notice; extension of comment period.

SUMMARY: EPA issued a notice in the Federal Register of January 15, 2016, opening a comment period for a draft pollinator-only ecological risk assessment for the registration review of imidacloprid. This document extends the comment period for 30 days, from March 15, 2016 to April 14, 2016. This comment period is being extended in response to a number of extension requests from various stakeholders.

DATES: Comments, identified by docket identification (ID) number EPA-HQ-OPP-2008-0844, must be received on or before April 14, 2016.

ADDRESSES: Follow the detailed instructions provided under ADDRESSES in the Federal Register document of January 15, 2016 (81 FR 2212) (FRL-9940-82).

FOR FURTHER INFORMATION CONTACT: Kelly Ballard, Pesticide Re-Evaluation Division (7508P), Office of Pesticide Programs, Environmental Protection Agency, 1200 Pennsylvania Ave. NW., Washington, DC 20460-0001; telephone number: (703) 305-8126; email address: ballard.kelly@epa.gov.

SUPPLEMENTARY INFORMATION:

This document extends the public comment period established in the Federal Register document of January 15, 2016 (81 FR 2212) (FRL-9940-82). In that document, EPA opened a comment period for a draft pollinator-only ecological risk assessment for the registration review of imidacloprid. EPA is hereby extending the comment period, which was set to end on March 15, 2016, to April 14, 2016.

To submit comments, or access the docket, please follow the detailed instructions provided under ADDRESSES in the Federal Register document of January 15, 2016. If you have questions, consult the person listed under FOR FURTHER INFORMATION CONTACT.

Authority: 7 U.S.C. 136 et seq.

Dated: February 29, 2016.
Yu-Ting Guilaran,
Director, Pesticide Re-Evaluation, Office of Pesticide Programs.

[FR Doc. 2016-05033 Filed 3-4-16; 8:45 am]

BILLING CODE 6560-50-P